DEPARTMENT OF THE INTERIOR

Bureau of Land Management

[CACA 48254, LLCAD08000L5101 FX0000LVRWB09B2410]

Notice of Availability of the Draft Granite Mountain Wind, LLC Wind Energy Generation Project Environmental Impact Statement/Environmental Impact Report, California, and the Draft California Desert Conservation Area Plan Amendment

AGENCY: Bureau of Land Management, Interior.

ACTION: Notice of Availability.

SUMMARY: In accordance with the National Environmental Policy Act of 1969, as amended, and the Federal Land Policy and Management Act of 1976 (FLPMA), as amended, the Bureau of Land Management (BLM), in cooperation with the County of San Bernardino, has prepared a Draft California Desert Conservation Area (CDCA) Plan Amendment and a Draft Environmental Impact Statement (EIS)/Environmental Impact Report (EIR) for the proposed Granite Mountain Wind Energy Generation Project and by this notice is announcing the opening of the comment period.

DATES: To ensure that comments will be considered, the BLM must receive written comments on the CDCA Plan Amendment and Draft EIS/EIR within 90 days following the date the Environmental Protection Agency publishes its Notice of Availability in the Federal Register. The BLM will announce future meetings or hearings and any other public involvement activities at least 15 days in advance through public notices, media releases, or mailings.

ADDRESSES: You may submit comments related to the proposed Granite Mountain Wind Energy Generation Project by any of the following methods:

• Web site: http://www.blm.gov/ca/st/en/fo/barstow.html.

• E-mail: GraniteWindProject@blm.gov.

• Fax: (760) 252-6099.

• Mail: Edythe Seehafer, BLM Barstow Field Office, 2601 Barstow Road, Barstow, California 92311.

Copies of the Draft CDCA Plan Amendment and Draft EIS/EIR for the proposed Granite Mountain Wind Energy Generation Project are available in the Barstow Field Office at the above address; copies are also available at the following Web site: http://www.blm.gov/ca/st/en/fo/barstow.html; the BLM California State Office, 2800 Cottage Way, Sacramento, California 95825; County of San Bernardino Land Use Services Department, 385 N. Arrowhead Avenue, San Bernardino, California 92415 and County of San Bernardino Land Use Services Department, 15456 West Sage Street, Victorville, California 92392. Electronic (CD-ROM) or paper copies may also be obtained by contacting Edythe Seehafer at (760) 252-6021 or by e-mailing your request to GraniteWindProject@blm.gov and including your name and mailing address.

FOR FURTHER INFORMATION CONTACT: Edythe Seehafer, telephone (760) 252-6021; address BLM Barstow Field Office, 2601 Barstow Road, California 92311; e-mail GraniteWindProject@blm.gov.

SUPPLEMENTARY INFORMATION: Granite Wind LLC has applied to the BLM under Title V of the FLPMA (43 U.S.C. 1761) for authorization of a right-of-way (ROW) on BLM managed lands to construct, operate, and decommission a wind energy facility and associated infrastructure in compliance with FLPMA, BLM ROW regulations, and other applicable Federal laws. The BLM will decide whether to approve, approve with modification, or deny issuance of a ROW authorization to Granite Wind LLC for the proposed Granite Mountain Wind Energy Project. Pursuant to the BLM's CDCA Plan (1980, as amended), sites associated with power generation or transmission not identified in the CDCA Plan will be considered through the plan amendment process; the BLM will also decide whether the project site itself is suitable or unsuitable for wind energy generation.

The Project is proposed on approximately 2,086 acres of public lands administered by the BLM's Barstow Field Office and 670 acres of private lands under the jurisdiction of the County of San Bernardino. Total disturbance for the project and ancillary facilities would be approximately 200 acres, of which approximately 90 acres would be long-term disturbance (for the life of operations). The Project would include the installation of up to twenty-eight 2.3-megawatt (MW) Siemens wind turbines (or a similar model of wind turbine with a 2.1 to 3 MW capacity). At full capacity, the proposed project is anticipated to produce approximately 185,000 MW-hours per year.

Alternatives include:

• A no action (no project) alternative with a plan amendment making the project area unavailable to wind energy projects;

• A no action (no project) alternative with a plan amendment making the project area available to other wind energy projects;

• The proposed action, including a plan amendment making the project area available for wind energy generation and providing for a portion of a new 230-kilovolt (kV) transmission line to occur outside of a utility corridor;

• A modified proposed action to access the site from the east instead of the west to minimize visual impacts from the project and to mitigate biological impacts to Bendire's Thrasher, a BLM sensitive bird species; and

• A modified proposed action that would interconnect to the transmission grid at an alternative location further east that would minimize impacts to an active golden eagle nest.

The proposed towers would be up to 262 feet tall. The turbine blades would extend an additional 166 feet for a total height of up to 428 feet above the ground. Twenty of the wind turbines would be located on Federal lands administered by the BLM, and eight would be on adjacent private land within unincorporated San Bernardino County. The proposed project would require the construction of a new access road; an on-site electrical switchyard; an overhead transmission line; a small operations and maintenance building; a temporary construction office; temporary facilities including a cement mixing facility, asphalt batch plant, and construction staging areas; and an electrical substation for interconnection to the Southern California Edison 230 kV transmission system. Each wind turbine would have a pad-mounted transformer located beside the wind turbine tower, a maintenance road, and underground electrical and communication lines. Two permanent meteorological towers would be installed to measure wind speed and direction across the site and control the turbines. The proposed project is expected to have an operating lifetime of 25-30 years.

A Notice of Intent for this project was published in the Federal Register on December 6, 2007 (72 FR 68894). This was followed by a 30-day public scoping period, which was extended upon the request of San Bernardino County. This extension ended on May 5, 2008. Public workshops and scoping meetings were held in Apple Valley, California in March and April 2008. Predominant issues identified during scoping included visual, biological, noise, recreation, transportation, economic, and cumulative impacts.

The issues and concerns identified during scoping are addressed in the Draft EIS/EIR. Please note that public comments and information submitted including names, street addresses, and e-mail addresses of persons who submit comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6, 1506.10 and 43 CFR 1610.2.

Thomas Pogacnik,
Deputy State Director.

[FR Doc. 2010-7474 Filed 4-1-10; 8:45 am]

BILLING CODE 4310-40-P